INTERNATIONAL TRADE COMMISSION

[Investigation No. 337-TA-1334 (Enforcement)]

Certain Raised Garden Beds and Components Thereof; Notice of a Commission Determination Not To Review an Initial Determination Granting a Joint Motion for Termination of the Enforcement Proceeding Based on Settlement; Termination of the Enforcement Proceeding

AGENCY: U.S. International Trade Commission.

ACTION: Notice.

SUMMARY: Notice is hereby given that the U.S. International Trade Commission (“Commission”) has determined not to review an initial determination (“ID”) (Order No. 9) of the presiding administrative law judge (“ALJ”) granting a joint motion to terminate the enforcement proceeding based on settlement. The enforcement proceeding is hereby terminated.

FOR FURTHER INFORMATION CONTACT: Edward S. Jou, Esq., Office of the General Counsel, U.S. International Trade Commission, 500 E Street SW, Washington, DC 20436, telephone (202) 205-3316. Copies of non-confidential documents filed in connection with this investigation may be viewed on the Commission's electronic docket (EDIS) at https://edis.usitc.gov. For help accessing EDIS, please email EDIS3Help@usitc.gov. General information concerning the Commission may also be obtained by accessing its internet server at https://www.usitc.gov. Hearing-impaired persons are advised that information on this matter can be obtained by contacting the Commission's TDD terminal on (202) 205-1810.

SUPPLEMENTARY INFORMATION: The Commission instituted the underlying investigation on October 19, 2022, based on an amended complaint filed by Vego Garden, Inc. of Houston, Texas (“Vego Garden”). 87 FR 63527-28 (Oct. 19, 2022). The Commission determined to investigate alleged violations of section 337 of the Tariff Act of 1930, as amended, 19 U.S.C. 1337, based upon the importation into the United States, and in the sale of, certain raised garden beds and components thereof by reason of misappropriation of trade secrets and unfair competition, the threat or effect of which is to destroy or substantially injure a domestic industry.

On March 21, 2024, the Commission issued a final determination finding a violation of section 337 based on trade secret misappropriation and false advertising. 89 FR 21270-71 (Mar. 27, 2024). The Commission determined to issue a limited exclusion order (“LEO”) directed to respondents Huizhou Green Giant Technology Co., Ltd. (“Green Giant”) of Guangdong, China and Utopban Limited (“Utopban”) of Hong Kong, and a cease and desist order (“CDO”) directed to Utopban.

The Commission instituted an enforcement proceeding in this investigation on June 26, 2024, based upon a complaint filed by Vego Innovations, Inc. f/k/a Vego Garden (“Vego”). 89 FR 53443-44 (June 26, 2024). The complaint alleges that Green Giant and Utopban have continued to import, sell, offer for sale, market, advertise, distribute, transfer, and/or solicit agents or distributors for products in violation of the LEO and CDO. Id. Green Giant and Utopban were named as respondents in the enforcement proceeding, and the Office of Unfair Import Investigations (“OUII”) was also named as a party. Comm'n Order (June 20, 2024).

On October 3, 2024, Vego, Green Giant, and Utopban filed a joint motion for termination of the enforcement proceeding based on a settlement agreement. On October 11, 2024, OUII filed a response in support of the motion. On October 17, 2024, the ALJ issued the subject ID granting the joint motion for termination, attaching confidential and public versions of the settlement agreement. The ALJ found that the motion complied with the requirements of Commission Rule 210.21(b)(1) (19 CFR 210.21(b)(1)). ID at 1-3. The ALJ also found that termination “would not adversely affect the public interest.” Id. at 3. No petitions for review of the subject ID were filed.

The Commission has determined not to review the subject ID. The enforcement proceeding is hereby terminated.

The Commission vote for this determination took place on November 13, 2024.

The authority for the Commission's determination is contained in section 337 of the Tariff Act of 1930, as amended (19 U.S.C. 1337), and in Part 210 of the Commission's Rules of Practice and Procedure (19 CFR part 210).

By order of the Commission.
Issued: November 14, 2024.
Lisa Barton,
Secretary to the Commission.

[FR Doc. 2024-26926 Filed 11-18-24; 8:45 am]

BILLING CODE 7020-02-P